FEDERAL COMMUNICATIONS COMMISSION

47 CFR Part 73

[DA 05-2941, MB Docket No. 05-106, RM-11196]

Radio Broadcasting Services; Ellaville, Milner, and Plains, GA

AGENCY: Federal Communications Commission.

ACTION: Final rule.

SUMMARY: This document grants a petition filed by Linda A. Davidson by allotting Channel 290A at Milner, Georgia, as its first local service and Channel 290A at Plains, Georgia, as its first local service. See 70 FR 17042, published April 4, 2005. To accommodate the Milner allotment, this document also substituted Channel 232A for vacant Channel 290A at Ellaville, Georgia. Vacant Channel 290A at Ellaville, Georgia is listed as construction permit number FM030 in Auction 62 scheduled for November 1, 2005. Accordingly, the auctioned winner must file for a construction permit for Channel 232A in lieu Channel 290A at Ellaville. See SUPPLEMENTARY INFORMATION.

DATES: Effective December 27, 2005.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 05-106, adopted November 8, 2005, and released November 10, 2005. The full text of this Commission decision is available for inspection and copying during normal business hours in the Commission's Reference Center 445 Twelfth Street, SW., Washington, DC 20554. The complete text of this decision may also be purchased from the Commission's duplicating contractor, Best Copy and Printing, Inc., 445 12th Street, SW., Room CY-B402, Washington, DC 20054, telephone 1-800-378-3160 or http://www.BCPIWEB.com. The Commission will send a copy of this Report and Order in a report to be sent to Congress and the Government Accountability Office pursuant to the Congressional Review Act, see 5 U.S.C. 801(a)(1)(A).

Channel 290A can be allotted to Milner in compliance with the Commission's rules provided there is a site restriction of 11.9 kilometers (7.4 miles) northeast at coordinates 33-09-44 NL and 84-04-51 WL. Channel 290A can be allotted to Plains in compliance with the Commission's rules provided there is a site restriction of 14.7 kilometers (9.1 miles) northeast at coordinates 32-06-51 NL and 84-16-10 WL. Channel 232A can be allotted to Ellaville in compliance with the Commission's rules provided there is a site restriction of 14.5 kilometers (9.0 miles) east at coordinates 32-16-53 NL and 84-09-52 WL.

This document also dismissed a counterproposal filed jointly by Radio Georgia, Inc., licensee of Station WTGA-FM, Channel 266A, Thomaston, Georgia and Southern Broadcasting Companies, Inc., requesting the reallotment of Channel 266A from Thomaston to Milner, Georgia, as its first local service and modification of the Station WTGA-FM license accordingly; the allotment of Channel 295A at Plains, Georgia, as its first local service; the allotment of Channel 290A at Oglethorpe, Georgia, as it first local service; and the substitution of Channel 232A for vacant Channel 290A at Ellaville, Georgia.

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Georgia, is amended by removing Channel 290A and by adding Channel 232A at Ellaville, by adding Milner, Channel 290A and by adding Plains, Channel 290A.

Federal Communications Commission.
John A. Karousos,
Assistant Chief, Audio Division, Media Bureau.

[FR Doc. 05-23355 Filed 11-29-05; 8:45 am]

BILLING CODE 6712-01-P